DEPARTMENT OF AGRICULTURE

Rural Utilities Service

Golden Valley Electric Association, Inc.; Notice of Finding of No Significant Impact

AGENCY: Rural Utilities Service, USDA.

ACTION: Notice of finding of no significant impact.

SUMMARY: Notice is hereby given that the Rural Utilities Service (RUS) has made a finding of no significant impact (FONSI) for a project proposed by Golden Valley Electric Association, Inc., (GVEA) of Fairbanks, Alaska. The project consists of constructing a 138kV transmission line between the GVEA North Pole Power Plant, North Pole, Alaska, and the Carney Substation, which is approximately 22 miles southeast of North Pole.

FOR FURTHER INFORMATION CONTACT: Nurul Islam, Environmental Protection Specialist, U.S. Department of Agriculture, RUS, Engineering and Environmental Staff, 1400 Independence Avenue, SW., Washington, DC 20250-1571, telephone (202) 720-1414, Fax: (202) 720-0820, e-mail: nurul.islam@usda.gov. Information is also available from Mr. Greg Wyman, Manager of Construction Services, GVEA, PO Box 71249, Fairbanks, Alaska 99707-1249, telephone (907) 451-5629. His e-mail address is: gwyman@gvea.com.

SUPPLEMENTARY INFORMATION: GVEA proposes to construct the North Pole to Carney Substation 138kV Transmission Line Project, which is approximately 22 miles in length. The primary purpose of the facility is to meet the projected future increases in regional power requirements and to improve the quality of service to existing customers. To accommodate the new transmission line, a new substation would be built next to the existing North Pole Power Plant which is located near the Williams Alaska Petroleum Refinery. In addition, GVEA would modify the existing Carney Substation to provide an additional breaker to allow for termination of the transmission line. The modification of the Carney Substation work would take place within the existing substation footprint. The proposed transmission line would be single circuit, with three-phase, constructed to operate at a voltage of 138 kV and supported by wood-pole, H-frame structures that would be approximately 75 ft. in height. The line would be constructed within a right-of-way that would be approximately 100 ft. in width.

Alternatives to the proposed project are discussed in detail in the environmental assessment (EA). They include no action, load management, purchase of power, upgrading of the existing line, construction of a new transmission line, substation locations, etc. Based on the analysis, the construction of a new transmission line, a new substation at the North Pole Power Plant, and modifications to the Carney Substation were found to meet the purpose and need for the project.

GVEA submitted an environmental report (ER) to RUS, which addresses the potential environmental impacts of the project. The ER includes input from federal, state, and local agencies. RUS has reviewed and accepted the ER as RUS' EA for the project in accordance with RUS' Environmental Policies and Procedures, 7 CFR 1794.41. The EA was made available to Federal, State, and local government agencies for their review and comments. GVEA published notices of the availability of the EA for public review in the Fairbanks Daily News Miner on January 17 and 18, 2004. The EA was also made available for public review at the Noel Wien Public Library, North Pole City Library, and RUS office in Washington, DC. The 30-day comment period on the EA for the project ended on February 20, 2004. The Department of Natural Resources, Office of the Habitat Management and Permitting (OHMP); Office of the History and Archaeology; Bureau of Land Management (BLM); and the Alyeska Pipeline Service Company (APSC) have commented on the project. No public comments were received on the EA.

A Habitat Permit from the OHMP will be required for equipment crossings and snow ramp/ice road construction over the anadromous streams. GVEA will obtain all necessary permits including the Habitat Permit from OHMP. The BLM would be responsible for issuing an authorization for third party use of military reservation lands that would be withdrawn for use other than military purposes under Pub. L. 105-65. The State Historic Preservation Officer (SHPO) of Alaska recommended an archaeological survey of the final route for the transmission line. GVEA will conduct an archaeological survey and the survey report will be made available to SHPO for review and comment. No construction related activities will be undertaken prior to final approval from SHPO and RUS. GVEA has agreed to consult with APSC on final routing of the transmission line when it would be necessary either to cross or be near the pipeline.

Any final action by RUS related to the proposed project will be subject to, and contingent upon, compliance with all relevant Federal environmental laws and regulations and completion of environmental review procedures as prescribed by the 7 CFR part 1794, RUS Environmental Policies and Procedures.

Dated: March 4, 2004.
Blaine D. Stockton,
Assistant Administrator, Electric Program, Rural Utilities Service.

[FR Doc. 04-5426 Filed 3-10-04; 8:45 am]

BILLING CODE 3410-15-P